DEPARTMENT OF VETERANS AFFAIRS

Advisory Committee Charter Renewals

AGENCY: Department of Veterans Affairs.

ACTION: Notice of Advisory Committee charter renewals.

SUMMARY: In accordance with the provisions of the Federal Advisory Committee ACT (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
VA National Academic Affiliations Council | Provides advice regarding partnerships between VA and its academic affiliates | March 13, 2020.
Genomic Medical Program Advisory Committee | Provides advice on the scientific and ethical issues related to the establishment, development, and operation of a genomic medicine program within VA | March 23, 2020.

The Secretary has also renewed the charter for the following statutorily authorized Federal advisory committee for a two-year period, beginning on the date listed below:

Committee name | Committee description | Charter renewed on
Advisory Committee on Women Veterans | Provides advice on the needs of women Veterans regarding health care, rehabilitation benefits, compensation, outreach, and other programs administered by VA | October 15, 2019.
Veterans' Advisory Committee on Rehabilitation | Provides advice on the rehabilitation needs of disabled Veterans and the administration of VA's rehabilitation programs | November 18, 2019.
Advisory Committee on Minority Veterans | Provides advice on the administration of VA benefits for Veterans who are minority group members in the areas of compensation, health care, rehabilitation, outreach, and other services | March 25, 2020.

FOR FURTHER INFORMATION CONTACT: Jeffrey Moragne, Committee Management Office, Department of Veterans Affairs, Advisory Committee Management Office (00AC), 810 Vermont Avenue NW, Washington, DC 20420; telephone (202) 266-4660 or (202) 714-1578; or via email at Jeffrey.Moragne@va.gov. To view a copy of a VA Federal advisory committee charters, please visit http://www.va.gov/advisory.

Dated: April 9, 2020.
Jelessa M. Burney,
Federal Advisory Committee Management Officer.

[FR Doc. 2020-07853 Filed 4-13-20; 8:45 am]

BILLING CODE 8320-01-P